DEPARTMENT OF TRANSPORTATION

Federal Aviation Administration

14 CFR Part 71

Docket No. FAA-2015-3601; Airspace Docket No. 15-AGL-5

RIN 2120-AA66

Revocation of Jet Route J-513; North Central United States

AGENCY: Federal Aviation Administration (FAA), DOT.

ACTION: Final rule.

SUMMARY: This action removes jet route J-513 in the north central United States. The FAA is taking this action to reflect and accommodate route changes made in Canadian airspace as part of Canada's Windsor-Toronto-Montreal (WTM) airspace redesign project.

DATES: Effective date 0901 UTC, December 10, 2015. The Director of the Federal Register approves this incorporation by reference action under title 1, Code of Federal Regulations, part 51, subject to the annual revision of FAA, Order 7400.9 and publication of conforming amendments.

ADDRESSES: FAA Order 7400.9Z, Airspace Designations and Reporting Points, and subsequent amendments can be viewed online at http://www.faa.gov/air_traffic/publications/. For further information, you can contact the Airspace Policy and Regulations Group, Federal Aviation Administration, 800 Independence Avenue SW., Washington, DC 20591; telephone: (202) 267-8783. The Order is also available for inspection at the National Archives and Records Administration (NARA). For information on the availability of this material at NARA, call (202) 741-6030, or go to http://www.archives.gov/federal_register/code_of_federal-regulations/ibr_locations.html.

FAA Order 7400.9, Airspace Designations and Reporting Points, is published yearly and effective on September 15.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in the north central United States to maintain the efficient flow of air traffic.

Background

In 1969, the FAA published in the Federal Register a rule that established J-513 from the Lakehead, Ontario, Canada, VHF Omnidirection Range Tactical Air Navigation (VORTAC) navigation aid (NAVAID) to the Sudbury, Ontario, Canada, VHF Omnidirection Range/Distance Measuring Equipment (VOR/DME) NAVAID (34 FR 12133, July 19, 1969). The route, extending through a small portion of airspace over the north central United States, was established in response to a request from the Canadian Department of Transport advising they had an immediate requirement for a high level airway to be designated from Lakehead to Sudbury. When it was established, J-513 joined to Canadian high level airway No. HL-513.

In 1970, the FAA published in the Federal Register a rule to amend J-513 (35 FR 3659, February 25, 1970). The amendment changed the name of the Lakehead, Ontario, Canada, VORTAC to Thunder Bay. As a result, the J-513 description was amended to reflect the route from the Thunder Bay, Ontario, Canada, VORTAC to the Sudbury, Ontario, Canada, VOR/DME, excluding the airspace within Canada.

In November 2014, Canada removed the portions of J-513 in Canadian airspace as part of their WTM airspace redesign program; however, corresponding action for the portion of J-513 in United States airspace was not accomplished by the FAA. This disconnect led to the charted depiction of J-513 being removed from the Instrument Flight Rules (IFR) high altitude enroute charts, but the legal description remained in FAA Order 7400.9 and the National Airspace System Repository (NASR).

Since the basis for which J-513 was originally established no longer exists, the FAA is removing the route from 14 CFR part 71 and FAA Order 7400.9. Subsequently, the FAA will remove the route from the NASR database.

Availability and Summary of Documents for Incorporation by Reference

This document amends FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

The FAA is amending Title 14 of the Code of Federal Regulations (14 CFR) part 71 by removing jet route J-513. This action responds to the route changes made in Canadian airspace as part of Canada's WTM airspace redesign project. This action removes a route that was put in place in accordance with a request from the Canadian Department of Transport, which traversed through Canadian and U.S. airspace. Canada has subsequently removed this route and the route no longer exists on aeronautical charts. Therefore, notice and public procedure under 5 U.S.C. 553(b) are unnecessary.

Jet routes are published in paragraph 2004 of FAA Order 7400.9Z dated August 6, 2015, and effective September 15, 2015, which is incorporated by reference in 14 CFR 71.1. The jet route listed in this document will be subsequently removed in the Order.

Regulatory Notices and Analyses

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1E, Environmental Impacts: Policies and Procedures, paragraph 5-6.5a. This airspace action consists of modifying an airway and it is not expected to cause any potentially significant environmental impacts, and no extraordinary circumstances exists that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015 and effective September 15, 2015, is amended as follows:

Paragraph 2004 Jet Routes

* * * * *

J-513 [Removed]

Issued in Washington, DC, on September 15, 2015.
Gary A. Norek,
Manager, Airspace Policy and Regulations Group.

[FR Doc. 2015-24101 Filed 9-23-15; 8:45 am]

BILLING CODE 4910-13-P